DEPARTMENT OF COMMERCE

International Trade Administration

[A-427-830; A-433-813]

Strontium Chromate From Austria and France: Final Results of the First Expedited Sunset Reviews of the Antidumping Duty Orders

AGENCY: Enforcement and Compliance, International Trade Administration, Department of Commerce.

SUMMARY: As a result of these expedited sunset reviews, the U.S. Department of Commerce (Commerce) finds that revocation of the antidumping duty (AD) orders on strontium chromate from Austria and France would be likely to lead to the continuation or recurrence of dumping at the dumping margins identified in the “Final Results of Sunset Reviews” section of this notice.

DATES: Applicable January 27, 2025.

FOR FURTHER INFORMATION CONTACT: Thomas Martin, AD/CVD Operations, Office IV, Enforcement and Compliance, International Trade Administration, U.S. Department of Commerce, 1401 Constitution Avenue NW, Washington, DC 20230; telephone: (202) 482-3936.

SUPPLEMENTARY INFORMATION:

Background

On November 27, 2019, Commerce published in the Federal Register the AD orders on strontium chromate from Austria and France.¹ On October 1, 2024, Commerce published the Initiation Notice of the first sunset reviews of the Orders, pursuant to section 751(c)(2) of the Tariff Act of 1930, as amended (the Act).² On October 11, 2024, Commerce received notices of intent to participate in these reviews from Lumimove Inc. d/b/a WPC Technologies (the domestic interested party), filed in proper form, within the deadline specified in 19 CFR 351.218(d)(1).³ The domestic interested party claimed interested party status under section 771(9)(C) of the Act as a manufacturer in the United States of the domestic like product.⁴ On October 31, 2024, Commerce received complete substantive responses from the domestic interested party within the 30-day deadline specified in 19 CFR 351.218(d)(3)(i).⁵ We received no substantive responses from respondent interested parties.

¹ See Strontium Chromate from Austria and France: Antidumping Duty Orders, 84 FR 65349 (November 27, 2019) (Orders).

² See Initiation of Five-Year (Sunset) Reviews, 89 FR 79892 (October 1, 2024) (Initiation Notice).

³ See Domestic Interested Party's Letters, “Strontium Chromate from Austria: Notice of Intent to Participate in Sunset Review, dated October 11, 2024;” and “Strontium Chromate from France: Notice of Intent to Participate in Sunset Review,” dated October 11, 2024 (Notice of Intent Letters).

⁴ See Notice of Intent Letters.

⁵ See Domestic Interested Party's Letters, “Strontium Chromate from Austria: Substantive Response to Notice of Initiation of Five-Year (Sunset) Review of the Antidumping Order,” dated October 31, 2024; and “Strontium Chromate from France: Substantive Response to Notice of Initiation of Five-Year (Sunset) Review of the Antidumping Order,” dated October 31, 2024.

On December 2, 2024, Commerce notified the U.S. International Trade Commission that it did not receive substantive responses from any respondent interested parties.⁶ As a result, pursuant to section 751(c)(3)(B) of the Act and 19 CFR 351.218(e)(l)(ii)(C)(2), Commerce conducted expedited (120-day) sunset reviews of the Orders.

⁶ See Commerce's Letter, “Sunset Reviews Initiated on October 1, 2024,” dated December 2, 2024.

Scope of the Orders

The products covered by these Orders are strontium chromate from Austria and France. For a full description of the scope of the Orders, see the Issues and Decision.⁷

⁷ See Memorandum, “Issues and Decision Memorandum for the Final Results of the Expedited First Sunset Reviews of the Antidumping Duty Orders on Strontium Chromate from Austria and France,” dated concurrently with, and herby adopted by, this notice (Issues and Decision Memorandum).

Analysis of Comments Received

A complete discussion of all issues raised in these sunset reviews is contained in the accompanying Issues and Decision Memorandum.⁸ A list of topics discussed in the Issues and Decision Memorandum is included as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be directly accessed at https://access.trade.gov/public/FRNoticesListLayout.aspx.

⁸ Id.

Final Results of Sunset Review

Pursuant to sections 751(c)(1) and 752(c)(1) and (3) of the Act, Commerce determines that revocation of the Orders would likely lead to the continuation or recurrence of dumping and that the magnitude of the dumping margins likely to prevail would be weighed-average dumping margins up to 25.90 percent for Austria and 32.16 percent for France.⁹

⁹ See Orders.

Administrative Protective Order

This notice serves as the only reminder to interested parties subject to an administrative protective order (APO) of their responsibility concerning the return/destruction or conversion to judicial protective order of proprietary information disclosed under APO in accordance with 19 CFR 351.305(a). Timely notification of the return or destruction of APO materials or conversion to judicial protective order is hereby requested. Failure to comply with the regulations and terms of an APO is a violation which is subject to sanction.

Notification to Interested Parties

We are issuing and publishing these final results and notice in accordance with sections 751(c), 752(c), and 777(i)(1) of the Act and 19 CFR 351.221(c)(5)(ii).

Dated: January 21, 2025.
Abdelali Elouaradia,
Deputy Assistant Secretary for Enforcement and Compliance.

Appendix—List of Topics Discussed in the Issues and Decision Memorandum

I. Summary

II. Background

III. Scope of the Orders

IV. History of the Orders

V. Legal Framework

VI. Discussion of the Issues

1. Likelihood of Continuation or Recurrence of Dumping

2. Magnitude of the Margin of Dumping Likely To Prevail

VII. Final Results of Expedited Sunset Reviews

VIII. Recommendation

[FR Doc. 2025-01752 Filed 1-24-25; 8:45 am]

BILLING CODE 3510-DS-P